DEPARTMENT OF COMMERCE

National Oceanic and Atmospheric Administration

[Docket No. 121022567-2567-01]

Notice To Solicit Applications for the Ocean Exploration Advisory Board

AGENCY: National Oceanic and Atmospheric Administration (NOAA), Office of Oceanic and Atmospheric Research.

ACTION: Notice.

SUMMARY: The Office of Oceanic and Atmospheric Research publishes this notice to solicit applications and nominations of persons with appropriate education, interest, and/or experience to become a member of the Ocean Exploration Advisory Board. The purpose of the Board is to advise the Under Secretary of Commerce for Oceans and Atmosphere on matters pertaining to ocean exploration including: The identification of priority areas that warrant exploration; the development and enhancement of technologies for exploring the oceans; managing the data and information; and disseminating the results. The Board will also provide advice on the relevance of the program with regard to the NOAA Strategic Plan, the National Ocean Policy Implementation Plan, and other relevant guidance documents.

DATES: Application materials should be sent to the address, email, or fax specified and must be received no later than 5:00 p.m., Eastern Time, on December 28, 2012.

ADDRESSES: Submit resume and application materials to Yvette Jefferson via mail, fax, or email. Mail: NOAA, 1315 East West Highway, SSMC3 Rm. 10315, Silver Spring, MD 20910; Fax: 301-713-1967; Email: Yvette.Jefferson@noaa.gov.

FOR FURTHER INFORMATION CONTACT: Yvette Jefferson, NOAA, 1315 East West Highway, SSMC3 Rm. 10315, Silver Spring, Maryland 20910; Fax: 301-713-1967; Email: Yvette.Jefferson@noaa.gov; Telephone: 301-734-1002.

SUPPLEMENTARY INFORMATION: NOAA's Ocean Exploration Program (OE) is part of the NOAA Office of Ocean Exploration and Research. The mission of OE is to increase the Nation's understanding of the world's largely unknown ocean through interdisciplinary expeditions and projects to investigate unknown and poorly known ocean areas and phenomena. Specific goals include:

(1) Mapping and characterizing physical, chemical, and biological ocean environments, as well as submerged cultural history;

(2) Investigating ocean dynamics and interactions in new places and at new scales;

(3) Developing new ocean sensors and systems to increase the pace and efficiency of ocean exploration; and

(4) Disseminating information to a broad spectrum of users through formal and informal education and outreach programs.

For more information on the Ocean Exploration Program please visit the Web sites: http://Oceanexplorer.noaa.gov and http://explore.noaa.gov.

This notice solicits applications for membership on the Ocean Exploration Advisory Board. The purpose of the Ocean Exploration Advisory Board (the Board) is to advise the Under Secretary of Commerce for Oceans and Atmosphere (Under Secretary), who is also the Administrator of the National Oceanic and Atmospheric Administration, on matters pertaining to ocean exploration including: The identification of priority areas that warrant exploration; the development and enhancement of technologies for exploring the oceans; managing the data and information; and disseminating the results. The Board will also provide advice on the relevance of the program with regard to the NOAA Strategic Plan, the National Ocean Policy Implementation Plan, and other relevant guidance documents. Authority to Which the Committee Reports: The Board will report to the Under Secretary, as directed by Section 12005 of the Outer Continental Shelf Lands Act (43 U.S.C. 1331 et seq.) part of the Omnibus Public Land Management Act of 2009 (33 U.S.C. 3405). The Board shall function solely as an advisory body in accordance with the Federal Advisory Committee Act (FACA), as amended, 5 U.S.C. App., with the exception of section 14.

Description of Duties: The Board shall:

a. Advise the Under Secretary on all aspects of ocean exploration including areas, features, and phenomena that warrant exploration; and other areas of program operation, including development and enhancement of technologies for exploring the ocean, managing ocean exploration data and information, and disseminating the results to the public, scientists, and educators;

b. Assist the program in the development of a 5-year strategic plan for the fields of ocean, marine, and Great Lakes science, exploration, and discovery, as well as making recommendations to NOAA on the evolution of the plan based on results and achievements;

c. Annually review the quality and effectiveness of the proposal review process established under Section 12003(a)(4); and

d. Provide other assistance and advice as requested by the Under Secretary.

Points of View: The Board will consist of approximately ten members including a Chair and Co-chair, designated by the Under Secretary in accordance with FACA requirements. Consideration will be given to candidates who are experts in fields relevant to ocean exploration, including ocean scientists, engineers and technical experts, educators, social scientists, and communications experts. Membership will be open to all individuals who have degrees, professional qualifications, scientific credentials, national reputations, international reputations, or relevant experience that will enable them to provide expert advice concerning the Ocean Exploration Program's roles within the context of NOAA's ocean missions and policies. Members will be appointed for 3-year terms, renewable once, and serve at the discretion of the Under Secretary. The Chair and Co-chair will serve 3-year terms renewable once. Initial appointments will include: Four members serving an initial 3-year term, three members serving an initial 4-year term and three members serving an initial 5-year term. All renewals will be 3-year terms. If a member resigns before the end of his or her first term, the vacancy appointment shall be for the remainder of the unexpired term, and shall be renewable twice if the unexpired term is less than one year.

Members will be appointed as special government employees (SGEs) and will be subject to the ethical standards applicable to SGEs. Members are reimbursed for actual and reasonable expenses incurred in performing such duties but will not be reimbursed for their time.

As a Federal Advisory Committee the Board's membership is required to be balanced in terms of viewpoints represented and the functions to be performed as well as including the interests of geographic regions of the country and the diverse sectors of our society.

The Board will meet two times each year, exclusive of subcommittee, task force, and working group meetings.

Nominations: Nominations must provide: (1) The nominee's full name, title, institutional affiliation, and contact information; (2) the nominee's area(s) of expertise; and (3) a short description of his/her qualifications relative to the kinds of advice being solicited. Inclusion of a (maximum length 4 pages) resume or curriculum vitae is recommended, but not required.

Applications: An application is required to be considered for Board membership. To apply, submit a current resume (maximum length 4 pages) as indicated in the ADDRESSES section that includes: (1) The applicant's full name, title, institutional affiliation, and contact information (mailing address, email, telephones, fax); (2) the nominee's area(s) of expertise; and (3) a short description of his/her qualifications relative to the kinds of advice being solicited. A cover letter stating their interest in serving on the Board and highlighting specific areas of expertise relevant to the purpose of the Board is required.

Dated: October 23, 2012.
Jason Donaldson,
Chief Financial Officer/Chief Administrative Officer, Office of Oceanic and Atmospheric Research, National Oceanic and Atmospheric Administration.

[FR Doc. 2012-26512 Filed 10-26-12; 8:45 am]

BILLING CODE 3510-KA-P